FEDERAL COMMUNICATIONS COMMISSION

Deletion of Items From Sunshine Act Meeting

March 23, 2017.

The following consent agenda items have been deleted from the list of items scheduled for consideration at the Thursday, March 23, 2017, Open Meeting and previously listed in the Commission's Notice of March 16, 2017. The Consent Agenda has been adopted by the Commission.

* * * * *

Consent Agenda

The Commission will consider the following subjects listed below as a consent agenda and these items will not be presented individually:

1 | Media | Title: WLPC, LLC, Application For Renewal of License For Class A Television Station WLPC-CD, Detroit, Michigan.
|  | Summary: The Commission will consider an Order adopting a Consent Decree which resolves issues regarding potential violations of the Commission's rules and grants the license renewal application of WLPC-CD.
2 | Media | Title: Application of Razorcake/Gorsky Press, Inc. For a New LPFM Station at Pasadena, California.
|  | Summary: The Commission will consider a Memorandum Opinion and Order concerning the denial of objections to an application for a construction permit for a new LPFM station.
3 | Media | Title: Immaculate Conception Apostolic School, Applications for a Construction Permit and Covering License for Noncommercial Educational Station DKJPT(FM) at Colfax, California.
|  | Summary: The Commission will consider an Order on Reconsideration concerning the dismissal of the licensee's Application for Review seeking reinstatement of the station's license.

Federal Communications Commission.
Marlene H. Dortch,
Secretary.

[FR Doc. 2017-06297 Filed 3-27-17; 4:15 pm]

BILLING CODE 6712-01-P